ENVIRONMENTAL PROTECTION AGENCY

[OPP-00740A; FRL-6806-5]

FIFRA Scientific Advisory Panel; Announcement of Change of Public Meeting Date

AGENCY: Environmental Protection Agency (EPA).

ACTION: Notice.

SUMMARY: EPA is announcing a change in the date of a public meeting of the FIFRA Scientific Advisory Panel which was originally published in the Federal Register of September 12, 2001. The meeting, to review the scientific applicability for use of an alternative test guideline for dermal sensitivity, was originally scheduled to be held on October 22, 2001 (the original title for the meeting was regulatory applicability of the local lymph node assay). The meeting date has been changed to December 11, 2001.

DATE: The FIFRA Scientific Advisory Panel meeting will be held on December 11, 2001, from 8:30 a.m. to 5:30 p.m.

ADDRESSES: The meeting will be held at the Sheraton Crystal City Hotel, 1800 Jefferson Davis Highway, Arlington, VA. The telephone number for the Sheraton Hotel is (703) 486-1111. Requests to participate may be submitted by mail, electronically, or in person. Please follow the detailed instructions for each method as provided in Unit I.C. of the originally published notice of September 12, 2001.

FOR FURTHER INFORMATION CONTACT: Paul Lewis, Designated Federal Official, Office of Science Coordination and Policy (7202), Environmental Protection Agency, 1200 Pennsylvania Ave., NW., Washington, DC 20460; telephone number: (703) 305-5369; fax number: (703) 605-0656; and e-mail address: lewis.paul@epa.gov.

SUPPLEMENTARY INFORMATION:

I. General Information

A. Does this Action Apply to Me?

This action is directed to the public in general. This action may, however, be of interest to those persons who are or may be required to conduct testing of chemical substances under the Federal Food, Drug and Cosmetic Act (FFDCA), FIFRA, and FQPA. Since other entities may also be interested, the Agency has not attempted to describe all the specific entities that may be affected by this action. If you have any questions regarding the applicability of this action to a particular entity, consult the person listed under FOR FURTHER INFORMATION CONTACT.

II. Purpose of this Notice

EPA is announcing a change in the date of a public meeting of the FIFRA Scientific Advisory Panel which was published in the Federal Register of September 12, 2001 (66 FR 47478) (FRL-6801-6). The meeting had originally been scheduled to be held on October 22 but has been changed to December 11, 2001.

List of Subjects

Environmental protection.

Dated: October 1, 2001.
Vanessa Vu,
Director, Office of Science Coordination and Policy.

[FR Doc. 01-25018 Filed 10-2-01 2:37 pm]

BILLING CODE 6560-50-S